FEDERAL COMMUNICATIONS COMMISSION

47 CFR Part 73

[DA 25-867; MB Docket No. 25-156; FR ID 314566]

Radio Broadcasting Services; Adamsville, Texas and Richland Springs, Texas

AGENCY: Federal Communications Commission.

ACTION: Final rule; petition for reconsideration.

SUMMARY: This document amends the Table of FM Allotments, of the Federal Communications Commission's (Commission) rules, by removing Channel 285A at Adamsville, Texas and by adding Channel 285A at Richland Springs, Texas. The staff engineering analysis determines that Channel 285A can be allotted to Richland Springs consistent with the minimum distance separation requirements of the Commission's rules, with a site restriction of 12 kilometers (7.5 miles) southeast of the community. The reference coordinates are 31-10-24 NL and 98-53-25 WL.

DATES: Effective November 3, 2025.

FOR FURTHER INFORMATION CONTACT: Rolanda F. Smith, Media Bureau, (202) 418-2054, Rolanda-Faye.Smith@fcc.gov.

SUPPLEMENTARY INFORMATION: This is a synopsis of the Commission's Memorandum Opinion and Order, adopted September 19, 2025 and released September 19, 2025. The full text of this Commission decision is available online at https://apps.fcc.gov/ecfs/. The full text of this document can also be downloaded in Word or Portable Document Format (PDF) at https://www.fcc.gov/edocs. This document does not contain information collection requirements subject to the Paperwork Reduction Act of 1995, Public Law 104-13. The Commission will send a copy of the Memorandum Opinion and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202(b), amend table 1 (Table of FM Allotments) under Texas by:

a. Removing the entry for “Adamsville”; and

b. Revising the entry for “Richland Springs”.

The revision reads as follows:

§ 73.202 Table of Allotments.

* * * * *

(b) Table of FM Allotments.

Table 1 to Paragraph (b)
[U.S. States]
| Channel No.
* * * * *
Texas
* * * * *
Richland Springs | 285A, 299A.
* * * * *

[FR Doc. 2025-18494 Filed 9-23-25; 8:45 am]

BILLING CODE 6712-01-P